DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Logbook Family of Forms.

OMB Control Number: 0648-0214.

Form Number(s): None.

Type of Request: Regular (revision and extension of a currently approved information collection).

Number of Respondents: 512.

Average Hours per Response: Logbooks and sales reports, 5-35 minutes based on fishery, entry/exit and landing notices and Protected Species Zone entry/exit notices, 5 minutes; landing/offloading notices, 3 minutes.

Burden Hours: 3,511.

Needs and Uses: This request is for revision of a currently approved information collection.

Fishermen in Federally-managed fisheries in the western Pacific region are required to provide certain information about their fishing activities, catch, and interactions with protected species by submitting reports to National Marine Fisheries Service (NMFS), per 50 CFR part 665. These data are needed to determine the condition of the stocks and whether the current management measures are having the intended effects, to evaluate the benefits and costs of changes in management measures, and to monitor and respond to accidental takes of endangered and threatened species, including seabirds, sea turtles, and marine mammals.

We are removing one form that has been added to another information collection, and moving two from other information collections to this one.

Affected Public: Business and other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 12, 2015.
Sarah Brabson,
NOAA PRA Clearance Officer.

[FR Doc. 2015-14860 Filed 6-16-15; 8:45 am]

BILLING CODE 3510-22-P